DEPARTMENT OF THE INTERIOR

Bureau of Indian Affairs

Indian Gaming

AGENCY: Bureau of Indian Affairs, Interior.

ACTION: Notice of Approved Tribal-State Class III Gaming Compact.

SUMMARY: This notice publishes approval of the Tribal-State Compact between the Pyramid Lake Paiute Indian Tribe and the State of Nevada Governing Class III Gaming.

DATES: Effective Date: February 23, 2010.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. On December 17, 2009, the Assistant Secretary—Indian Affairs, Department of the Interior, through his delegated authority, approved the compact between the Pyramid Lake Paiute Tribe and the State of Nevada, which was executed on October 22, 2009. The compact authorizes the full gamut of casino-style gaming authorized by the Nevada Gaming Commission and/or lawfully permitted to be played by the State.

Dated: February 4, 2010.
Donald Laverdure,
Deputy Assistant Secretary—Indian Affairs.

[FR Doc. 2010-3399 Filed 2-22-10; 8:45 am]

BILLING CODE 4310-4N-P